NUCLEAR REGULATORY COMMISSION

[NRC-2023-0189]

Information Collection: Public Records and NRC Forms 507 and 509

AGENCY: Nuclear Regulatory Commission.

ACTION: Renewal of existing information collection; request for comment.

SUMMARY: The U.S. Nuclear Regulatory Commission (NRC) invites public comment on the renewal of Office of Management and Budget (OMB) approval for an existing collection of information. The information collection is entitled, “Public Records and NRC Forms 507 and 509.”

DATES: Submit comments by July 5, 2024. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2023-0189. Address questions about Docket IDs in Regulations.gov to Stacy Schumann; telephone: 301-415-0624; email: Stacy.Schumann@nrc.gov. For technical questions, contact the individual listed in the FOR FURTHER INFORMATION CONTACT section of this document.

• Mail comments to: David Cullison, Office of the Chief Information Officer, Mail Stop: T-6 A10M, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2023-0189 when contacting the NRC about the availability of information for this action. You may obtain publicly available information related to this action by any of the following methods:

• Federal Rulemaking Website: Go to https://www.regulations.gov and search for Docket ID NRC-2023-0189. A copy of the collection of information and related instructions may be obtained without charge by accessing Docket ID NRC-2023-0189 on this website.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. A copy of the collection of information and related instructions may be obtained without charge by accessing ADAMS Accession Nos. ML24022A113, ML24022A114, and ML24022A116. The supporting statement and burden spreadsheet are available in ADAMS under Accession Nos. ML24022A111 and ML24022A112.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

The NRC encourages electronic comment submission through the Federal rulemaking website (https://www.regulations.gov). Please include Docket ID NRC-2023-0189, in your comment submission.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the NRC, then you should inform those persons not to include identifying or contact information that they do not want to be publicly disclosed in their comment submission. Your request should state that comment submissions are not routinely edited to remove such information before making the comment submissions available to the public or entering the comment into ADAMS.

II. Background

In accordance with the Paperwork Reduction Act of 1995 (44 U.S.C. chapter 35), the NRC is requesting public comment on its intention to request the OMB's approval for the information collection summarized as follows.

1. The title of the information collection: Public Records and NRC Forms 507 and 509.

2. OMB approval number: 3150-0043.

3. Type of submission: Extension.

4. The form number, if applicable: NRC Forms 507 and 509.

5. How often the collection is required or requested: On occasion.

6. Who will be required or asked to respond: Freedom of Information Act (FOIA) requesters, outside vendors, and licensees who submit an objection to disclosure.

7. The estimated number of annual responses: 628.

8. The estimated number of annual respondents: 273.

9. The estimated number of hours needed annually to comply with the information collection requirement or request: 180.5.

10. Abstract: The FOIA, 5 U.S.C. 552, and the implementing regulations, part 9 of title 10 of the Code of Federal Regulations (10 CFR), “Public Records,” require individuals seeking access to records under the FOIA and Privacy Act of 1974, as amended, 5 U.S.C. 552a, to submit a request in writing and to describe the records sought sufficiently for the NRC to conduct a reasonable search. The Privacy Act of 1974, as amended, 5 U.S.C. 552a, establishes a code of fair information practices that governs the collection, maintenance, use, and dissemination of information about individuals that is maintained in systems of records by Federal agencies. Specifically, Subpart B (Privacy Act regulations) implements the provisions of the Privacy Act of 1974, as amended, (5 U.S.C. 552a), with respect to the procedures by which individuals may determine the existence of, seek access to, and request correction of NRC records concerning themselves. Requesters can currently submit FOIA and/or Privacy Act requests in writing, fax, email, https://www.foia.gov or by using the Public Access Link (https://foia.nrc-gateway.gov/app/Home.aspx). NRC Form 509, “Statement of Estimated Fees for Freedom of Information Act (FOIA) Request” is used by: (1) the NRC to notify requesters that fees will be assessed for processing their FOIA requests, (2) the requester to notify NRC in writing of their agreement to pay fees, (3) the NRC to notify the requester to submit a written request for a waiver pursuant to 10 CFR 9.41 within 10 working days from the receipt of the notice, and (4) the NRC to notify the requester to provide advanced payment of estimated fees. NRC Form 507, “Identity Verification and/or Third-Party Authorization for Freedom of Information Act/Privacy Act Requests,” is used by requesters to provide the identity verification or third-party authorization that is needed by the NRC in order to process their requests. The NRC uses the information provided by requesters to process requests from the public. In addition, outside vendors and licensees can submit an objection to disclosure. The NRC needs this information to properly process FOIA requests that involve confidential information or trade secrets.

III. Specific Requests for Comments

The NRC is seeking comments that address the following questions:

1. Is the proposed collection of information necessary for the NRC to properly perform its functions? Does the information have practical utility? Please explain your answer.

2. Is the estimate of the burden of the information collection accurate? Please explain your answer.

3. Is there a way to enhance the quality, utility, and clarity of the information to be collected?

4. How can the burden of the information collection on respondents be minimized, including the use of automated collection techniques or other forms of information technology?

Dated: April 30, 2024.
For the Nuclear Regulatory Commission.
David Cullison,
NRC Clearance Officer, Office of the Chief Information Officer.

[FR Doc. 2024-09747 Filed 5-3-24; 8:45 am]

BILLING CODE 7590-01-P